DEPARTMENT OF THE INTERIOR

Fish and Wildlife Service

[FWS-R3-ES-2011-N203; 30120-1112-0000-F2]

Draft Environmental Impact Statement and Multi-Species Habitat Conservation Plan; Receipt of Application for Incidental Take Permit; NiSource, Inc.

AGENCY: Fish and Wildlife Service, Interior.

ACTION: Notice of availability; extension of public comment period.

SUMMARY: We, the U.S. Fish and Wildlife Service (Service), are extending the public comment period on all documents related to NiSource, Inc.'s application for an incidental take permit under the Endangered Species Act of 1973 (ESA). We announced receipt of the application and availability of documents in our July 13, 2011, Federal Register notice, which also opened a 90-day public comment period. If you have previously submitted comments, please do not resubmit them, because we have already incorporated them in the public record and will fully consider them in our final decision.

DATES: To ensure consideration, please send your written comments on or before December 13, 2011.

ADDRESSES: Send written comments via U.S. mail to the Regional Director, Midwest Region, Attn: Lisa Mandell, U.S. Fish and Wildlife Service, Ecological Services, 5600 American Blvd. West, Suite 990, Bloomington, MN 55437-1458, or by electronic mail to permitsR3ES@fws.gov.

FOR FURTHER INFORMATION CONTACT: Lisa Mandell, (612) 713-5343.

SUPPLEMENTARY INFORMATION: In a July 13, 2011, Federal Register notice (76 FR 41288), we provided a list of 10 species for which NiSource, Inc. (the applicant) has requested incidental take authority, and 33 species for which they have determined that implementation of certain measures will avoid incidental take. The application includes a MSHCP pursuant to Section 10 of the Endangered Species Act of 1973 (16 U.S.C. 1531 et seq.; ESA). If approved as proposed by the applicant, the permit would be for a 50-year period.

The applicant's MSHCP covers a suite of activities associated with operation of a natural gas pipeline system in the States of Delaware, Indiana, Kentucky, Louisiana, Maryland, Mississippi, New Jersey, New York, North Carolina, Ohio, Pennsylvania, Tennessee, Virginia, and West Virginia. In its MSHCP, the applicant describes activities to maintain their existing pipeline and complete certain construction projects within a distinct area. This area included in the MSHCP is referred to as the “covered lands.” The covered lands include a 1-mile-wide corridor along the existing pipeline, with the existing pipeline right-of-way in the center (approximately), and 9 counties that include natural gas storage fields. However, the exact locations of those fields have not been disclosed due to proprietary business information and Homeland Security concerns. A total of 9,783,200 acres is included in the covered lands footprint. However, the impact area for proposed activities will be a fraction of that acreage. NiSource anticipates that, on an annual basis, 18,500 acres will be disturbed within the existing right-of-way and less than 1,000 acres of land will be disturbed due to new construction. The total acreage anticipated to be disturbed annually is 0.2 percent of the total covered lands footprint. This is fully described in the chapter 2 of the MSHCP, available on our Web site.

Our July 13 Federal Register notice also announced the availability of the draft Environmental Impact Statement (DEIS) prepared pursuant to the National Environmental Policy Act (NEPA; 42 U.S.C. 4321 et seq.). The DEIS is also posted on the Service's Web site, along with the applicant's documents. The DEIS evaluates the impacts of permit issuance and implementation of the MSHCP, a no action alternative, and an alternative for permit issuance with a 10-year duration. The DEIS presents discussion of the development of these alternatives, as well as an evaluation of the impacts of these alternatives in a broad (“programmatic”) fashion. Tiering of future NEPA analyses is integral to the analysis presented in the DEIS. Additional background information, a description of the proposed action, and other alternatives evaluated in the DEIS are presented in the July 13, 2011 (76 FR 41288), Federal Register notice.

Reviewing Documents and Submitting Comments

If you have previously submitted comments, please do not resubmit them, because we have already incorporated them in the public record and will fully consider them in our final decision.

Please refer to TE02636A when submitting comments. The permit application and supporting documents (ITP application, draft MSHCP, DEIS, Implementing Agreement, and summary documents) may be obtained on the Internet at the following address: http://www.fws.gov/midwest/endangered/permits/hcp/r3hcps.html.

Please make it clear when commenting whether your comments address the HCP, the DEIS, both the HCP and DEIS, or other supporting documents.

Persons without access to the Internet may obtain copies of the documents (application, draft MSHCP, and DEIS) by contacting the U.S. Fish and Wildlife Service, Ecological Services, 5600 American Blvd. W., Suite 990, Bloomington, MN 55437-1458 (612) 713-5350, voice; (612) 713-5292, fax. The documents will also be available for public inspection, by appointment, during normal business hours (8 a.m. to 4 p.m.) at the following Regional Offices:

Midwest Region Office: U.S. Fish and Wildlife Service, Ecological Services, 10th Floor—5600 American Blvd. W., Bloomington, MN 55437 (612) 713-5350, voice; (612) 713-5292, fax;

Southeast Region: 1875 Century Blvd., Suite 200, Atlanta, GA 30345-3319 (404) 679-7140, voice; (404) 679-7081, fax;

Northeast Region: 300 Westgate Center Drive, Hadley, MA 01035-9589 (413) 253-8304, voice; (413) 253-8293, fax.

Written comments will be accepted as described under ADDRESSES, above.

Public Availability of Comments

Written comments we receive become part of the public record associated with this action. Before including your address, phone number, e-mail address, or other personal identifying information in your comment, you should be aware that the entire comment, including your personal identifying information, may be made available at any time. While you can ask us in your comment to withhold your personal identifying information from public review, we cannot guarantee that we will be able to do so.

Authority: We provide this notice under section 10(c) of the ESA (16 U.S.C. 1531 et seq.) and its implementing regulations (50 CFR 17.22), and NEPA (42 U.S.C. 4371 et seq.) and its implementing regulations (40 CFR 1506.6; 43 CFR part 46).

Dated: September 26, 2011.
Charlie Wooley,
Acting Regional Director, Midwest Region, Fort Snelling, Minnesota.

[FR Doc. 2011-26561 Filed 10-12-11; 11:15 am]

BILLING CODE 4310-55-P